DEPARTMENT OF ENERGY

Office of Energy Efficiency and Renewable Energy

10 CFR Part 430

[Docket Number EE-RM/STD-98-440]

RIN 1904-AA77

Energy Conservation Program for Consumer Products: Central Air Conditioners and Heat Pumps Energy Conservation Standards

AGENCY: Office of Energy Efficiency and Renewable Energy, Department of Energy.

ACTION: Notice of proposed rulemaking; rescheduling of public hearing, extension of time to submit comments.

SUMMARY: This document: Announces a new date of October 2, 2001, for the public hearing originally scheduled for September 13, 2001; and extends the time period to October 19, 2001 for submitting comments regarding the supplemental notice of proposed rulemaking published on July 25, 2001.

DATES: Oral views, data, and arguments may be presented at the public hearing rescheduled to begin at 9 a.m. on October 2, 2001 in Washington, DC. DOE must receive requests to speak at the public hearing and a copy of your statements no later than 4 p.m., September 26, 2001, and we request that you provide a computer diskette (WordPerfect 8) of each statement at that time. Unless we hear otherwise, we will assume that persons who previously submitted requests to speak at the public hearing scheduled for September 13, 2001 will present oral statements at the hearing on October 2, 2001.

Comments must be received on or before October 19, 2001. DOE is requesting a signed original, a computer diskette (WordPerfect 8) and 10 copies of the written comments. DOE will also accept e-mailed comments, but you must send a signed original.

ADDRESSES: Please submit written comments, oral statements, and requests to speak at the public hearing to: Brenda Edwards-Jones, U.S. Department of Energy, Office of Energy Efficiency and Renewable Energy, Energy Conservation Program for Consumer Products: Central Air Conditioners and Heat Pumps, Docket No. EE-RM/STD-98-440, 1000 Independence Avenue, SW., Washington, DC 20585-0121. Telephone (202) 586-2945; Telefax: (202) 586-4617. You should label comments both on the envelope and on the documents and submit them for DOE receipt by October 19, 2001. You may send emails to: brenda.edwards-jones@ee.doe.gov.

The workshop will be held at the U.S. Department of Energy, Forrestal Building, Room 1E-245, 1000 Independence Avenue, SW., Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.) You can find more information concerning public participation in this rulemaking proceeding in Section VII, “Public Comment,'of the previous published notice of proposed rulemaking. (66 FR 38822).

A limited number of call-in phone lines will be provided for the October 2, 2001, workshop from 9 a.m. to 5 p.m. for those unable to travel. Please contact Ms. Brenda Edwards-Jones at (202) 586-2945 to obtain the call-in phone number.

Copies of the transcript of the public hearing, the public comments received and this notice may be read at the Freedom of Information Reading Room, U.S. Department of Energy, Forrestal Building, Room 1E-190, 1000 Independence Avenue, SW., Washington, DC 20585, (202) 586-3142, between the hours of 9 a.m. and 4 p.m., Monday through Friday, except Federal holidays.

FOR FURTHER INFORMATION CONTACT: Dr. Michael E. McCabe, U.S. Department of Energy, Office of Energy Efficiency and Renewable Energy, Forrestal Building, EE-41, 1000 Independence Avenue, SW., Washington, DC 20585-0121, (202) 586-0854, e-mail: ME.mccabe@ee.doe.gov, or Michael Bowers, Esq., U.S. Department of Energy, Office of General Counsel, Forrestal Building, GC-72, 1000 Independence Avenue, SW., Washington, DC 20585, (202) 586-8140, e-mail: mike.bowers@hq.doe.gov.

Issued in Washington, DC., on September 21, 2001.
David K. Garman,
Assistant Secretary, Energy Efficiency and Renewable Energy.

[FR Doc. 01-24227 Filed 9-26-01; 8:45 am]

BILLING CODE 6450-01-P